NATIONAL AERONAUTICS AND SPACE ADMINISTRATION

[Notice: 08-055]

Notice of Centennial Challenges Lunar Lander Challenge

AGENCY: National Aeronautics and Space Administration (NASA).

ACTION: Notice of Centennial Challenges Lunar Lander Challenge.

SUMMARY: This notice is issued in accordance with 42 U.S.C. 2451 (314)(d).

The Lunar Lander Challenge is now scheduled and teams that wish to compete may now register. The NASA Centennial Challenges Program is a program of prize contests to stimulate innovation and competition in space exploration and ongoing NASA mission areas. The Lunar Lander Challenge is a prize contest designed to accelerate technology developments supporting the commercial creation of a vehicle capable of ferrying cargo or humans back and forth between lunar orbit and the lunar surface.

The Lunar Lander Challenge is being administered for NASA by the X PRIZE Foundation. Their Web site is: http://www.xprize.org. The Centennial Challenges Web site is http://centennialchallenges.nasa.gov.

DATES: The Lunar Lander Challenge will be held on October 24 and 25, 2008 and will be continued on an annual basis until all the purse money has been awarded, or until October 2010, whichever comes first. The first Lunar Lander Challenge competition was held on October 20-21, 2006.

ADDRESS: The Lunar Lander Challenge will be held at Holloman Air Force Base, Alamogordo, NM.

FOR FURTHER INFORMATION CONTACT: Requests for additional information regarding the NASA Centennial Challenges Program should be directed to Mr. Andrew Petro, NASA Headquarters, Suite 6J79, 300 E Street, SW., Washington, DC 20546. To register for and get additional information regarding the Lunar Lander Challenge, contact the X PRIZE Foundation, William Pomerantz, (301) 395-5283, Will@xprize.org or visit the Web site at http://space.xprize.org/ng-lunar-lander-challenge.

SUPPLEMENTARY INFORMATION:

I. Summary

The purpose of the Lunar Lander Challenge is to accelerate technology developments supporting the commercial creation of a vehicle capable of ferrying cargo or humans back and forth between lunar orbit and the lunar surface. Such a vehicle would have direct application to NASA's space exploration goals as well as the personal spaceflight industry. Additionally, the prize will help industry build new vehicles and develop the operational capacity to operate quick turnaround vertical take-off, vertical landing vehicles that will be of significant use in many facets of the commercial launch procurement market.

II. Challenge Basis and Prize Amount

To win the $2,000,000 purse, a rocket-propelled vehicle with an assigned payload must take-off vertically, climb to a defined altitude, fly for a pre-determined amount of time, then land vertically on a target that is a fixed distance from the take-off point. After remaining at this location for a period of time, the vehicle must take-off, fly for the same amount of time, and land again on its original launch pad.

III. Eligibility

The Centennial Challenges Program has established the following language, including definitions, governing eligibility. Challenge is the Lunar Lander Challenge.

A Team is an individual or private entity, or a group of individuals or private entities that register to participate in Challenge. A Team is comprised of a Team Leader and Team Members. A Team Leader is, by definition, also a Team Member.

Team Members are participants on the Team that are not the Team Leader. To be eligible to win the Challenge prize, an individual or entity, (a) in the case of a private entity, shall be incorporated in and maintain a primary place of business in the United States, and (b) in the case of an individual, whether participating individually or as a member of a group, shall be a citizen or permanent resident of the United States.

A Team Leader is a single private entity or individual which is the sole agent representing TEAM regarding its participation in Challenge. In the case of the Team Leader that is a private entity, it must appoint an individual who is an officer of the private entity to represent the Team Leader.

All Team Members will apply to register for the Challenge through Team Leader and must receive written concurrence by XPF.

All Team Members must execute an “Adoption of Agreement” committing to all terms of this Agreement. By signing the Agreement, Team Leader represents that all Team Members have executed the Adoption of Agreement and that no one else will become a member of the Team or participate in the Challenge until such new Team Member has signed the Agreement. XPF may disqualify any TEAM if it discovers that a person is acting as a Team Member who has not signed this Agreement. Team Leader will provide XPF with a copy of the “Adoption of Agreement” signed by each team member. Any U.S. Government organization or organization principally or substantially funded by the Federal Government, including Federally Funded Research and Development Centers, Government-owned, contractor operated (GOCO) facilities, University Affiliated Research Centers, and any employee of such an organization acting within the scope of his or her employment, are ineligible to be a Team Leader or Team Member. Team Members may participate in Challenge on more than one Team.

IV. Rules

The rules for the Lunar Lander Challenge can be found at: http://space.xprize.org/ng-lunar-lander-challenge.

Dated: August 11, 2008.
Doug Comstock,
Director, Innovative Partnerships Program Office.

[FR Doc. E8-19095 Filed 8-15-08; 8:45 am]

BILLING CODE 7510-13-P